DEPARTMENT OF STATE

[Public Notice 11764]

Proposal To Extend Cultural Property Agreement Between the United States and Belize

ACTION: Public notice.

SUMMARY: Proposal to extend the Memorandum of Understanding Between the Government of the United States of America and the Government of Belize Concerning the Imposition of Import Restrictions on Categories of Archaeological Material of Belize.

FOR FURTHER INFORMATION CONTACT: Andrew Zonderman, Cultural Heritage Center, Bureau of Educational and Cultural Affairs: (202) 718-9481; culprop@state.gov; include “Belize” in the subject line.

SUPPLEMENTARY INFORMATION: The Assistant Secretary of State for Educational and Cultural Affairs proposes an extension of the Memorandum of Understanding Between the Government of the United States of America and the Government of Belize Concerning the Imposition of Import Restrictions on Categories of Archaeological Material of Belize. The Cultural Heritage Center website provides instructions for public comment and additional information on the request, including categories of material that may be included in import restrictions: https://eca.state.gov/cultural-property-advisory-committee-meeting-july-26-27-2022. This notice is published pursuant to authority vested in the Assistant Secretary of State for Educational and Cultural Affairs and pursuant to 19 U.S.C. 2602(f)(1).

Allison Davis,
Executive Director, Cultural Property Advisory Committee, Bureau of Educational and Cultural Affairs, Department of State.

[FR Doc. 2022-13187 Filed 6-17-22; 8:45 am]

BILLING CODE 4710-05-P